DEPARTMENT OF LABOR

Employment and Training Administration

Amended Certification Regarding Eligibility To Apply for Worker Adjustment Assistance

TA-W-74,466 Hewlett Packard Company, Enterprise Business Division, Technical Services America, Global Parts Supply Chain Group, Including Leased Workers From QFLEX, North America Logistics, and UPS Headquartered in Palo Alto, California, Teleworkers Across California and Workers On-Site In Roseville, California;

TA-W-74,466A Hewlett Packard Company Enterprise Business Division Technical Services America Global Parts Supply Chain Group Including Leased Workers From QFLEX, North America Logistics, and UPS Teleworkers Across Arizona;

TA-W-74,466B, Hewlett Packard Company Enterprise Business Division Technical Services America Global Parts Supply Chain Group Including Leased Workers From QFLEX, North America Logistics, and UPS Teleworkers Across Florida;

TA-W-74,466C, Hewlett Packard Company Enterprise Business Division Technical Services America Global Parts Supply Chain Group Including Leased Workers From QFLEX, North America Logistics, and UPS Teleworkers Across Massachusetts And Workers On-Site In Andover, Massachusetts;

TA-W-74,466D, Hewlett Packard Company Enterprise Business Division Technical Services America Global Parts Supply Chain Group Including Leased Workers From QFLEX, North America Logistics, and UPS Minnetonka, Minnesota;

TA-W-74,466E, Hewlett Packard Company Enterprise Business Division Technical Services America Global Parts Supply Chain Group Including Leased Workers From QFLEX, North America Logistics, and UPS Teleworkers Across New Hampshire;

TA-W-74,466F, Hewlett Packard Company Enterprise Business Division Technical Services America Global Parts Supply Chain Group Including Leased Workers From QFLEX, North America Logistics, and UPS Teleworkers Across New York;

TA-W-74,466G, Hewlett Packard Company Enterprise Business Division Technical Services America Global Parts Supply Chain Group Including Leased Workers From QFLEX, North America Logistics, and UPS Charlotte, North Carolina;

TA-W-74,466H, Hewlett Packard Company Enterprise Business Division Technical Services America Global Parts Supply Chain Group Including Leased Workers From QFLEX, North America Logistics, and UPS Teleworkers Across Ohio;

TA-W-74,466I, Hewlett Packard Company Enterprise Business Division Technical Services America Global Parts Supply Chain Group Including Leased Workers From QFLEX, North America Logistics, and UPS Teleworkers Across Texas and Workers On-Site In Houston, Texas.

In accordance with Section 223 of the Trade Act of 1974, as amended (“Act”), 19 U.S.C. 2273, the Department of Labor issued a Certification of Eligibility to Apply for Worker Adjustment Assistance on September 10, 2010, applicable to workers of Hewlett Packard Company, Enterprise Business Division, Technical Services America, Global Parts Supply Chain Group, including leased workers from QFlex, North America Logistics, and UPS, Palo Alto, California. The notice was published in the Federal Register on September 10, 2010 (75 FR 57982).

At the request of the company, the Department reviewed the certification for workers of the subject firm. The workers are engaged in design services and sales compensation operations for Hewlett Packard Company.

New findings show that worker separations occurred during the relevant time period at several other Hewlett Packard, Enterprise Business Division, Technical Services America, Global Parts Supply Chain Group, including: Teleworkers across California and workers on-site in Roseville, California; teleworkers across Arizona; teleworkers across Florida; teleworkers across Massachusetts and workers on-site in Andover, Massachusetts; workers on-site in Minnetonka, Minnesota; teleworkers across New Hampshire; teleworkers across New York; workers on-site in Charlotte, North Carolina; teleworkers across Ohio; and teleworkers across Texas and workers on-site in Houston, Texas.

Accordingly, the Department is amending the certification to include teleworkers across California and workers on-site in Roseville, California (TA-W-74,466); teleworkers across Arizona (TA-W-74,466A); teleworkers across Florida (TA-W-74,466B); teleworkers across Massachusetts and workers on-site in Andover, Massachusetts (TA-W-74,466C); workers on-site in Minnetonka, Minnesota (TA-W-74,466D); teleworkers across New Hampshire (TA-W-74,466E); teleworkers across New York (TA-W-74,466F); workers on-site in Charlotte, North Carolina (TA-W-74,466G); teleworkers across Ohio (TA-W-74,466H); and teleworkers across Texas and workers on-site in Houston, Texas (TA-W-74,466I).

The intent of the Department's certification is to include all workers of the subject firm who were adversely affected by Hewlett Packard's decision to shift business services to foreign countries.

The amended notice applicable to TA-W-74,466 is hereby issued as follows:

Conclusion

After careful review of the facts obtained in the investigation, I determine that workers of Hewlett Packard Company, Enterprise Business Division, Technical Services America, Global Parts Supply Chain Group, including leased workers from QFlex, North America Logistics, and UPS, Palo Alto, California, including teleworkers across California and workers on-site in Roseville, California (TA-W-74,466); teleworkers across Arizona (TA-W-74,466A); teleworkers across Florida (TA-W-74,466B); teleworkers across Massachusetts and workers on-site in Andover, Massachusetts (TA-W-74,466C); workers on-site in Minnetonka, Minnesota (TA-W-74,466D); teleworkers across New Hampshire (TA-W-74,466E); teleworkers across New York (TA-W-74,466F); workers on-site in Charlotte, North Carolina (TA-W-74,466G); teleworkers across Ohio (TA-W-74,466H); and teleworkers across Texas and workers on-site in Houston, Texas (TA-W-74,466I), who are engaged in employment related to design services and sales compensation operations, meet the worker group certification criteria under Section 222(a) of the Act, 19 U.S.C. 2272(a). In accordance with Section 223 of the Act, 19 U.S.C. 2273, I make the following certification:

“All workers of Hewlett Packard Company, Enterprise Business Division, Technical Services America, Global Parts Supply Chain Group, including leased workers from QFlex, North America Logistics, and UPS, Palo Alto, California, including teleworkers across California and workers on-site in Roseville, California; teleworkers across Arizona; teleworkers across Florida; teleworkers across Massachusetts and workers on-site in Andover, Massachusetts; workers on-site in Minnetonka, Minnesota; teleworkers across New Hampshire; teleworkers across New York; workers on-site in Charlotte, North Carolina; teleworkers across Ohio; and teleworkers across Texas and workers on-site in Houston, Texas, who became totally or partially separated from employment on or after June 22, 2009, through two years from the date of certification, and all workers in the group threatened with total or partial separation from employment on date of certification through two years from the date of certification, are eligible to apply for adjustment assistance under Chapter 2 of Title II of the Trade Act of 1974, as amended.”

Signed in Washington, DC, this 12th day of November, 2010.
Del Min Amy Chen,
Certifying Officer, Office of Trade Adjustment Assistance.

[FR Doc. 2010-29433 Filed 11-22-10; 8:45 am]

BILLING CODE 4510-FN-P